RECOVERY ACCOUNTABILITY AND TRANSPARENCY BOARD

Agency Information Collection Activities: Renewal of Currently Approved Collection; Comment Request

Correction

In notice document 2012-30952, appearing on page 76097, in the issue of Wednesday, December 26, 2012, make the following correction:

In the first column, under the heading DATES, in the second and third lines, “February 22, 2013” should read “February 25, 2013”.

[FR Doc. C1-2012-30952 Filed 1-17-13; 8:45 am]

BILLING CODE 1505-01-D